DEPARTMENT OF LABOR

Employment and Training Administration

[TA-W-56,331]

Peerless Lighting Corporation; Berkeley CA; Notice of Termination of Investigation

Pursuant to section 221 of the Trade Act of 1974, as amended, an investigation was initiated on January 12, 2005 in response to a petition filed on by a One Stop Representative on behalf of workers of Peerless Lighting, Berkeley, California.

The petitioner has requested that the petition be withdrawn. Consequently, the investigation has been terminated.

Signed at Washington, DC, this 13th day of January 2005.
Richard Church,
Certifying Officer, Division of Trade Adjustment Assistance.

[FR Doc. E5-276 Filed 1-25-05; 8:45 am]

BILLING CODE 4510-30-P